INTERNATIONAL TRADE COMMISSION

[USITC SE-06-025]

Sunshine Act Meeting Notice

Agency Holding the Meeting: United States International Trade Commission.

Time and Date: April 21, 2006 at 11 a.m.

Place: Room 101, 500 E Street, SW., Washington, DC 20436, Telephone: (202) 205-2000.

Status: Open to the public.

Matters To Be Considered: 1. Agenda for future meetings: None.

2. Minutes.

3. Ratification List.

4. Inv. No. 731-TA-1103 (Preliminary) (Certain Activated Carbon from China)—briefing and vote. (The Commission is currently scheduled to transmit its determination to the Secretary of Commerce on or before April 24, 2006; Commissioners' opinions are currently scheduled to be transmitted to the Secretary of Commerce on or before May 1, 2006.)

5. Outstanding action jackets: None.

In accordance with Commission policy, subject matter listed above, not disposed of at the scheduled meeting, may be carried over to the agenda of the following meeting.

Issued: April 12, 2006.
By order of the Commission.
Marilyn R. Abbott,
Secretary to the Commission.

[FR Doc. 06-3632 Filed 4-12-06; 12:30 pm]

BILLING CODE 7020-02-P